DEPARTMENT OF STATE

[Public Notice: 7705]

60-Day Notice of Proposed Information Collection: DS-86, Statement of Non-Receipt of a Passport, 1405-0146

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Statement of Non-Receipt of a Passport.

• OMB Control Number: 1405-0146.

• Type of Request: Extension of a Currently Approved Collection.

• Originating Office: Bureau of Consular Affairs, CA/PPT/PMO/PC.

• Form Number: DS-86.

• Respondents: Individuals who have not received the passport for which they originally applied.

• Estimated Number of Respondents: 12,755 per year.

• Estimated Number of Responses: 12,755 per year.

• Average Hours per Response: 5 min.

• Total Estimated Burden: 1,063 hours.

• Frequency: On Occasion.

• Obligation to Respond: Required to Obtain a Benefit.

DATES: The Department will accept comments from the public up to 60 days from December 2, 2011.

ADDRESSES: You may submit comments by any of the following methods:

• Email: PPTFormsOfficer@state.gov

• Mail (paper, disk, or CD-ROM submissions): Passport Services, Passport Forms Management and Officer, U.S. Department of State, Office of Program Management and Operational Support, 2201 C Street NW., Washington, DC 20520.

You must include the DS form number (if applicable), information collection title, and OMB control number in any correspondence.

FOR FURTHER INFORMATION CONTACT: Direct requests for additional information regarding the collection listed in this notice, including requests for copies of the proposed information collection and supporting documents, to Passport Services, Passport Forms Management and Officer, U.S. Department of State, Office of Program Management and Operational Support, 2201 C Street NW., Washington, DC 20520, who may be reached on (202) 663-2457 or at PPTFormsOfficer@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

This statement of non-receipt is used by the U.S. Department of State to collect information for the purpose of issuing a replacement passport to customers who have not received the passport for which they originally applied.

Methodology

Passport applicants who do not receive their passports are required to complete a Statement of Non-Receipt of a Passport, Form DS-86. Passport applicants can either download the form from the Internet or pick one up from an Acceptance Facility/Passport Agency. The form must be completed, signed, and then submitted to the Acceptance Facility/Passport Agency for passport re-issuance.

Dated: November 15, 2011.
Barry J. Conway,
Acting Deputy Assistant Secretary for Passport Services, Bureau of Consular Affairs, Department of State.

[FR Doc. 2011-31063 Filed 12-1-11; 8:45 am]

BILLING CODE 4710-05-P